DEPARTMENT OF THE INTERIOR

Fish and Wildlife Service

Notice of Availability for the McNary and Umatilla National Wildlife Refuges Draft Comprehensive Conservation Plan and Environmental Assessment and Notification of Public Open House Meetings

AGENCY: Fish and Wildlife Service, Interior.

ACTION: Notice of availability and notification of public open house meetings.

SUMMARY: The Fish and Wildlife Service (Service) has completed a Draft Comprehensive Conservation Plan and Environmental Assessment (Draft CCP/EA) for the McNary and Umatilla National Wildlife Refuges (Refuges). It is available for public review and comment. The Draft CCP/EA describes the Service's proposal for managing the Refuges for the next 15 years. Draft compatibility determinations for public uses are available for review with the Draft CCP/EA.

DATES: Public comments on the Draft CCP/EA are requested by February 23, 2007 (see ADDRESSES for delivery options). Three public open house meetings will be held see SUPPLEMENTARY INFORMATION for details.

ADDRESSES: Address comments on the Draft CCP/EA to: Greg Hughes, Project Leader, Mid-Columbia River National Wildlife Refuge Complex, 3250 Port of Benton Blvd., Richland, WA 99352; fax (509) 375-0196; or e-mail FW1PlanningComments@fws.gov. Please use “McNary/Umatilla CCP” in the subject. Additional information concerning the Refuges can be found on the Internet at http://www.fws.gov/midcolumbiariver/. Comments may also be submitted at the public open house meetings see SUPPLEMENTARY INFORMATION for details.

FOR FURTHER INFORMATION CONTACT: Greg Hughes, Project Leader, (509) 375-0196.

SUPPLEMENTARY INFORMATION: The Draft CCP/EA was prepared pursuant to the National Wildlife Refuge System Administration Act, as amended, and the National Environmental Policy Act of 1969 (NEPA). Copies of the Draft CCP/EA on compact diskette are available upon request from the Refuge Complex at phone number (509) 371-9212. Copies of the Draft CCP/EA may be reviewed at the Mid-Columbia River National Wildlife Refuge Complex, 3250 Port of Benton Blvd., Richland, WA. The Draft CCP/EA is also available for viewing and downloading on the Internet at http://www.fws.gov/midcolumbiariver/. Printed copies will be available for review at the following libraries.

1. Richland Public Library, 955 Northgate Drive, Richland, WA.

2. Hermiston Public Library, 235 E. Gladys Avenue, Hermiston, OR.

3. Walla Walla Public Library, 238 E. Alder St., Walla Walla, WA.

4. Umatilla Public Library, 911 7th St., Umatilla, OR.

Habitat management activities proposed in the Draft CCP/EA include improving the conditions of wetland, riparian, mudflat, and shrub-steppe habitats, with emphasis on reducing invasive species; increasing moist soil habitats beneficial for waterfowl, shorebirds, and other wetland associates; evaluating and, where feasible, enhancing backwater habitats for salmonids; and increasing the amount of grain available for ducks on the Refuges' agricultural lands.

Public use management actions proposed in the Draft CCP/EA include expanding and improving trails, signs, and access areas for wildlife observation; improving the quality of upland bird hunting; implementing some minor trades between sanctuary and hunt areas; continuing waterfowl hunting coordination with the States; improving information available to anglers and boaters; expanding the Umatilla Refuge's environmental education program; improving management of horseback riding; eliminating overnight camping at McNary Refuge; and reducing illegal uses.

Background

Umatilla Refuge encompasses 26,888 acres with units along the Columbia River in both Washington and Oregon. McNary Refuge encompasses approximately 15,894 acres located 30 miles upstream of Umatilla Refuge, near Kennewick, Washington. Habitat types found on both Refuges include shrub-steppe uplands, croplands, woody riparian areas, basalt cliffs, emergent marshes, large marshes, and open water areas of the Columbia River. Several islands are also part of each Refuge. Both Refuges provide important migratory and wintering habitat for numerous bird species especially waterfowl.

Purpose and Need for Action

The purpose of the CCP is to provide reasonable, scientifically-grounded guidance for improving the Refuges' shrub-steppe, riparian, wetland, and cliff-talus habitats for the long-term conservation of native plants and animals and migratory birds, while providing high quality public use programs for hunting, fishing, wildlife observation, photography, and environmental education and interpretation. The Draft CCP/EA identifies appropriate actions to protect and sustain the cultural and biological features of the river islands, the Refuges' wintering waterfowl populations and habitats, the migratory shorebird populations that use the Refuges, and threatened, endangered, or rare species.

Alternatives

The Service identified and evaluated four alternatives for managing the McNary and Umatilla Refuges for the next 15 years, including a No Action Alternative (Alternative 4). Brief descriptions of the alternatives follow.

Alternative 1: Emphasize Migratory Waterfowl Management and Consumptive Public Uses. Under Alternative 1, the Refuges' management focus would be on providing migratory waterfowl with high quality, easily accessible food during both normal and severe winters. This would be accomplished by increasing both crop production and waterfowl food plants. Secure, adequately-sized resting areas would be provided to ensure the health of overwintering and migrating waterfowl. Consumptive public uses such as hunting and fishing would be emphasized, with improvements to facilities and increased opportunities. A State pheasant augmentation/release program would be discontinued, and camping would be discontinued at Madame Dorion Park. Other public uses would continue at approximately their current levels of service.

Alternative 2: Emphasize Migratory Birds, Special Status Species and Wildlife-Dependent Public Uses. Under Alternative 2, the Service's preferred alternative, the Refuges would focus on managing habitat for all migratory birds, and enhancing populations of targeted special status species and their habitats. Habitats for migratory waterfowl, shorebirds, threatened and endangered species, and other native wildlife would be improved. Weed control and reduction, and improving riparian, shrub-steppe, island, and cliff habitats would be emphasized. Wildlife-dependent public uses would also be emphasized, with opportunities for hunting, fishing, wildlife observation, photography, interpretation, and environmental education maintained or improved from present conditions. A State pheasant augmentation/release program would be discontinued and camping at Madame Dorion Park would be discontinued. Disturbance to island resources would be reduced through implementation of a no-wake zone within 100 feet of Refuge islands. Alternative 2 is the Service's preferred alternative because it best achieves the purpose and need for the CCP while maintaining balance among the varied management needs and programs. Alternative 2 addresses issues and relevant mandates, and is consistent with principles of sound fish and wildlife management.

Alternative 3: Emphasize Native Species Diversity and Nonconsumptive Public Uses. Under Alternative 3, the Refuges' management focus would be on mimicking natural processes, to maintain, enhance, and, where possible, increase native fish, wildlife, and plant diversity representative of historical conditions in the Lower Columbia River Basin. Emphasis would be placed on improving existing island, riverine, and shrub-steppe habitats and restoring modified and/or degraded habitats to a more native condition. Fewer acres would be managed in croplands. Habitat management would contribute to the recovery of threatened, endangered, or rare species such as salmon, steelhead, and long-billed curlews. Hunting and fishing opportunities would be available at most current sites except pheasant and fish stocking would be eliminated, and fewer acres would be managed to provide waterfowl food. Opportunities for wildlife-dependent nonconsumptive uses would be improved and expanded. Camping would be discontinued at Madame Dorion Park. All island areas would be closed to public access during summer.

Alternative 4: No Action Alternative. Alternative 4 is the no action alternative as required under NEPA. It provides a baseline from which to compare Alternatives 1, 2, and 3. Under Alternative 4, the Refuges would continue to maintain, and, where feasible, restore habitat for waterfowl, migratory birds, and State and Federally-listed species. Existing public uses would continue.

Public Comments

Public comments are requested, considered, and incorporated throughout the planning process. Comments on the Draft CCP/EA would be appreciated by February 23, 2007. A previous notice concerning development of this CCP/EA was published in the Federal Register on May 24, 2004. Comments on the Draft CCP/EA will be analyzed by the Service and addressed in final planning documents. All comments received from individuals become part of the official public record and may be released. Requests for such comments will be handled in accordance with the Freedom of Information Act, NEPA regulations, and Service and Department of the Interior policies and procedures.

Public Open House Meetings

Three Public Open House Meetings will be held to provide people an opportunity to learn more about the alternatives analyzed in the Draft CCP/EA. Public comments will be collected and recorded at the meetings. Meeting dates, times, and locations follow.

1. February 1, 2007, 4 p.m. to 7 p.m., Riverfront Center, 2 Marine Drive, Boardman, Oregon.

2. February 6, 2007, 4 p.m. to 7 p.m., McNary Environmental Education Center, 311 Lake Road, Burbank, Washington.

3. February 8, 2007, 5 p.m. to 8 p.m., Red Lion Hotel, 2525 North 20th Ave., Pasco, Washington.

Dated: January 24, 2007.
David J. Wesley,
Acting Regional Director, Region 1, Portland, Oregon.

[FR Doc. E7-1395 Filed 1-26-07; 8:45 am]

BILLING CODE 4310-55-P